DEPARTMENT OF HEALTH AND HUMAN SERVICES

National Institutes of Health

Prospective Grant of Exclusive License: Devices for Countercurrent Chromatography

AGENCY: National Institutes of Health, Public Health Service, HHS.

ACTION: Notice.

SUMMARY: This is notice, in accordance with 35 U.S.C. 209(c)(1) and 37 CFR 404.7(a)(1)(i), that the National Institutes of Health (NIH), Department of Health and Human Services, is contemplating the grant of an exclusive worldwide license to practice the invention embodied in: HHS Ref. No. E-321-2007 “Second Generation Improved Spiral Tube Support for Countercurrent Chromatography” to CC Biotech LLC, a company incorporated under the laws of the State of Maryland having its headquarters in Rockville, Maryland. The United States of America is the assignee of the rights of the above inventions. The contemplated exclusive license may be granted in a field of use limited to devices and components for centrifugal or countercurrent chromatographic purification, isolation, or preparation of biomolecules and macromolecules.

DATES: Only written comments and/or applications for a license received by the NIH Office of Technology Transfer on or before December 10, 2007 will be considered.

ADDRESSES: Requests for a copy of the patent application, inquiries, comments and other materials relating to the contemplated license should be directed to: Michael A. Shmilovich, Esq., Office of Technology Transfer, National Institutes of Health, 6011 Executive Boulevard, Suite 325, Rockville, MD 20852-3804; Telephone: (301) 435-5019; Facsimile: (301) 402-0220; E-mail: shmilovm@mail.nih.gov. A signed confidentiality nondisclosure agreement will be required to receive copies of any patent applications that have not been published by the United States Patent and Trademark Office or the World Intellectual Property Organization.

SUPPLEMENTARY INFORMATION: The patents and patent applications intended for licensure disclose or cover the following:

The support compactly holds spirally wound plastic tubing at a desired spiral pitch without connection. When mounted on the existing high-speed countercurrent chromatographic centrifuge, it will produce separation of bioactive compounds including proteins, nucleic acids, polysaccharides, and small molecular weight compounds from natural products without loss of samples in the separation column.

The present invention is an improvement on a spiral disc previously reported under E-014-2003 (now abandoned) which was published as WO 2004/085020. That disc differed in that the prior version the radial channels represented in the figure on the right (e.g., I1-O4; I4-O3, etc.) went all the way through the disc and ended at the outer wall and the center, thereby creating a channel that forced tubing to wrap around the device to re-enter the spiral grooves. Here, the direction of the tubing through the interleaved spiral grooves is continuous and the transition points between grooves are smoother. The design effectively eliminates about 5 cm of “dead-space,” and allows for the plates to be stackable; which was impossible with the previous design.

The prospective exclusive license will be royalty bearing and will comply with the terms and conditions of 35 U.S.C. 209 and 37 CFR 404.7. The prospective exclusive license may be granted unless, within sixty (60) days from the date of this published notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: October 1, 2007.
Steven M. Ferguson,
Director, Division of Technology Development and Transfer, Office of Technology Transfer, National Institutes of Health.

[FR Doc. E7-19941 Filed 10-9-07; 8:45 am]

BILLING CODE 4140-01-P